DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration (ITA).

Title: Internet Web site Forms.

Form Number(s): ITA-4148P.

OMB Control Number: 0625-0237.

Type of Request: Regular submission.

Burden Hours: 3,559.

Number of Respondents: 21,335.

Average Hours per Response: 5-10 minutes.

Needs and Uses: The International Trade Administration's (ITA) U.S. Commercial Service (CS) is mandated by Congress to broaden and deepen the U.S. exporter base. The CS accomplishes this by providing counseling, programs and services to help U.S. firms export and conduct business in overseas markets. This information collection enables the CS to provide appropriate export services to U.S. exporters.

The dissemination of international market information and potential business opportunities for U.S. exporters are critical components of the Commercial Service's export assistance programs and services. U.S. companies conveniently access and indicate their interest in these services by completing and submitting the appropriate forms via ITA and CS U.S. Export Assistance Center Web sites.

The forms ask U.S. exporters standard questions about their company details, export experience, information about the products or services they wish to export and exporting goals. A few questions are tailored to a specific program type and will vary slightly with each program. CS staff use this information to gain an understanding of client's needs and objectives so that they can provide appropriate and effective export assistance tailored to an exporter's particular requirements.

U.S. companies that are interested in obtaining export assistance or participating in a CS export-related program will provide the CS with information about:

• The export-related programs and services that they wish to participate in;

• Company background such as product/service to be exported, industry, company size, export experience, company contact information, and client name and contact information;

• Exporting goals and objectives such as markets of interest, industries, potential end-users; and

• Previous contact information with CS, such as the U.S. Export Assistance Center(s), CS staff, etc.

The collected information will be used by CS staff in counseling and assisting clients and in fulfilling U.S. firms' requests for export assistance services and programs.

The CS requests approval for the following nine information collection instruments:

Currently Approved

• Preliminary Consultation.

• Local Event.

• ShowTime.

• Market Express Bulletin.

• Export.gov Registration (current and new versions).

• Reporting International Success.

New

• Industry Focused Program.

• Featured U.S. Exporter.

• Business Service Providers.

Affected Public: Business or other for-profit organizations.

Frequency: On occasion.

Respondent's Obligation: Voluntary.

OMB Desk Officer: Wendy L. Liberante, (202) 395-3647.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Wendy L. Liberante, OMB Desk Officer, (202) 395-395-3647 or via the Internet at Wendy_L._Liberante@omb.eop.gov.

Dated: February 20, 2009.
Gwellnar Banks,
Management Analyst, Office of the Chief Information Officer.

[FR Doc. E9-4061 Filed 2-25-09; 8:45 am]

BILLING CODE 3510-FP-P